INTERNATIONAL TRADE COMMISSION

[Investigation No. 731-TA-884 (Preliminary)]

Anhydrous Sodium Sulfate From Canada

Determination

On the basis of the record ¹ developed in the subject investigation, the United States International Trade Commission unanimously determines, pursuant to section 733(a) of the Tariff Act of 1930,² that there is no reasonable indication that an industry in the United States is materially injured or threatened with material injury, or that the establishment of an industry in the United States is materially retarded, by reason of imports of anhydrous sodium sulfate from Canada,³ that are alleged to be sold in the United States at less than fair value (LTFV).

¹ The record is defined in § 207.2(f) of the Commission's rules of practice and procedure (19 CFR 207.2(f)).

² 19 U.S.C. 1673b(a).

³ For purposes of this investigation, anhydrous sodium sulfate, also referred to as “salt cake” or “disodium sulfate,” is an inorganic chemical with a chemical composition of Na2SO4. The “Chemical Abstract Service” number for anhydrous sodium sulfate is 7757-82-6. All forms and variations of anhydrous sodium sulfate are included within the scope of the investigation, regardless of grade, level of purity, production method, or form of packaging. Anhydrous sodium sulfate is currently classifiable under subheadings 2833.11.10 and 2833.11.50 of the Harmonized Tariff Schedule of the United States (HTS).

Background

On July 10, 2000, a petition was filed with the Commission and the Department of Commerce by Cooper Natural Resources (CNR), Tulsa, OK, and IMC Chemicals (IMCC), Overland Park, KS, alleging that an industry in the United States is materially injured or threatened with material injury by reason of LTFV imports of anhydrous sodium sulfate from Canada. Accordingly, effective July 10, 2000, the Commission instituted antidumping investigation No. 731-TA-884 (Preliminary).

Notice of the institution of the Commission's investigation and of a public conference to be held in connection therewith was given by posting copies of the notice in the Office of the Secretary, U.S. International Trade Commission, Washington, DC, and by publishing the notice in the Federal Register of July 17, 2000.⁴ The conference was held in Washington, DC, on July 31, 2000, and all persons who requested the opportunity were permitted to appear in person or by counsel.

⁴ 65 FR 44075.

The Commission transmitted its determination in this investigation to the Secretary of Commerce on August 24, 2000. The views of the Commission are contained in USITC Publication 3345 (September 2000), entitled Anhydrous Sodium Sulfate From Canada: Investigation No. 731-TA-884 (Preliminary).

Issued: August 24, 2000.
By order of the Commission.
Donna R. Koehnke,
Secretary.

[FR Doc. 00-22197 Filed 8-29-00; 8:45 am]

BILLING CODE 7026-02-P